COMMISSION ON CIVIL RIGHTS

Agenda and Notice of Public Meeting of the New Jersey Advisory Committee

Notice is hereby given, pursuant to the provisions of the rules and regulations of the U.S. Commission on Civil Rights, that a meeting of the New Jersey Advisory Committee to the Commission will convene at 9:30 a.m. and adjourn at 4 p.m. on Wednesday, June 6, 2001, at the New Jersey State House, Room 319, 125 W. State Street, Trenton, New Jersey 08625. The purpose of the meeting is to: (1) review the Committee's draft report on Asian American representation in the New Jersey state government employment; and (2) the Committee will hold a briefing session focusing on the Federal role in compliance with a consent decree remedying racial profiling practices by the New Jersey state police or alternatively criminal prosecutions for civil rights violations in New Jersey.

Persons desiring additional information, or planning a presentation to the Committee, should contact Chairperson Dr. Irene Hill-Smith, 856-468-5546 or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, May 7, 2001.
Edward A. Hailes, Jr.,
General Counsel.

[FR Doc. 01-12442 Filed 5-16-01; 8:45 am]

BILLING CODE 6335-01-P